DEPARTMENT OF COMMERCE

International Trade Administration

[C-533-864]

Certain Corrosion-Resistant Steel Products From India: Preliminary Results of the Countervailing Duty Administrative Review; 2015-2016

AGENCY: Enforcement and Compliance, International Trade Administration, Department of Commerce.

SUMMARY: The Department of Commerce (Commerce) preliminarily determines that certain corrosion-resistant steel products (CORE) from India are being, or are likely to be, sold in the United States at less than normal value during the period of review (POR) November 6, 2015, through December 31, 2016.

DATES: Applicable August 10, 2018.

FOR FURTHER INFORMATION CONTACT: Justin Neuman or Matthew Renkey, AD/CVD Operations, Office V, Enforcement and Compliance, International Trade Administration, U.S. Department of Commerce, 1401 Constitution Avenue NW, Washington, DC 20230; telephone: (202) 482-0486 or (202) 482-2312, respectively.

SUPPLEMENTARY INFORMATION:

Background

On September 13, 2017, Commerce initiated this administrative review on CORE from India covering JSW Steel Limited and Uttam Galva Steels Limited.¹ The events that have occurred between initiation and these preliminary results are discussed in the Preliminary Decision Memorandum dated concurrently with and hereby adopted by this notice.²

¹ See Initiation of Antidumping and Countervailing Duty Administrative Reviews, 82 FR 42974 (September 13, 2017).

² See Memorandum, “Decision Memorandum for the Preliminary Results of the Countervailing Duty Adminsitrative Review: Certain Corrosion-Resistant Steel Products from India,” dated concurrently with this notice (Preliminary Decision Memorandum).

Scope of the Order

The products covered by the order are certain corrosion-resistant steel products from India. For a full description of the scope, see the Preliminary Decision Memorandum.³

³ Id.

Methodology

Commerce is conducting this review in accordance with section 751(a)(l)(A) of the Tariff Act of 1930, as amended (the Act). For each of the subsidy programs found countervailable, we preliminarily determine that there is a subsidy, i.e., a financial contribution by an “authority” that gives rise to a benefit to the recipient, and that the subsidy is specific.⁴ For a full description of the methodology underlying our conclusions, see the Preliminary Decision Memorandum. A list of topics included in the Preliminary Decision Memorandum is included as an Appendix to this notice.

⁴ See sections 771(5)(B) and (D) of the Act regarding financial contribution; section 771(5)(E) of the Act regarding benefit; and section 771(5A) of the Act regarding specificity.

The Preliminary Decision Memorandum is a public document and is on file electronically via Enforcement and Compliance's Antidumping and Countervailing Duty Centralized Electronic Service System (ACCESS). ACCESS is available to registered users at http://access.trade.gov and in the Central Records Unit, Room B8024 of the main Department of Commerce building. In addition, a complete version of the Preliminary Decision Memorandum can be accessed directly on the internet at http://enforcement.trade.gov/frn/. The signed Preliminary Decision Memorandum and the electronic versions of the Preliminary Decision Memorandum are identical in content.

Preliminary Results of Review

We preliminarily determine the total estimated net countervailable subsidy rates for the period November 6, 2015, through December 31, 2016 to be:

⁵ Cross-owned affiliates are: JSW Steel Coated Products Limited (a producer and exporter of subject merchandise), Amba River Coke Limited, JSW Steel (Salav) Limited, and JSW Steel Processing Centers Limited.

⁶ Cross-owned affiliates are: Uttam Value Steels Limited (a producer and exporter of subject merchandise) and Uttam Galva Metallics Limited.

Manufacturer/exporter | Subsidy rate (percent ad valorem)
JSW Steel Limited and JSW Steel Coated Products Limited ⁵ | 11.30
Uttam Galva Steels Limited and Uttam Value Steels Limited ⁶ | 15.45

Disclosure and Public Comment

Commerce intends to disclose to parties to this proceeding the calculations performed in reaching the preliminary results within five days of the date of publication of these preliminary results in the Federal Register. ⁷ Interested parties may submit written comments (case briefs) within 30 days after the date of publication of the preliminary results and rebuttal comments (rebuttal briefs) within five days after the time limit for filing case briefs.⁸ Rebuttal briefs must be limited to issues raised in the case briefs.⁹ Parties who submit case or rebuttal briefs are requested to submit with the argument: (1) A statement of the issue; (2) a brief summary of the argument; and (3) a table of authorities.¹⁰

⁷ See 19 CFR 351.224(b).

⁸ See 19 CFR 351.309(c)(l)(ii) and 351.309(d)(l).

⁹ See 19 CFR 351.309(d)(2).

¹⁰ See 19 CFR 351.309(c)(2) and (d)(2).

Interested parties who wish to request a hearing must do so within 30 days of publication of these preliminary results by submitting a written request to the Assistant Secretary for Enforcement and Compliance, U.S. Department of Commerce, using Enforcement and Compliance's ACCESS system.¹¹ Requests should contain the party's name, address, and telephone number, the number of participants, and a list of the issues to be discussed. If a request for a hearing is made, we intend to inform parties of the scheduled date for the hearing, which will be held at the U.S. Department of Commerce, 1401 Constitution Avenue NW, Washington, DC 20230, at a time and location to be determined.¹² Parties should confirm by telephone the date, time, and location of the hearing. Issues addressed at the hearing will be limited to those raised in the briefs.¹³ All briefs and hearing requests must be filed electronically and received successfully in their entirety through ACCESS by 5:00 p.m. Eastern Time on the due date.

¹¹ See 19 CFR 351.310(c).

¹² See 19 CFR 351.310.

¹³ See 19 CFR 351.310(c).

Unless the deadline is extended pursuant to section 751(a)(3)(A) of the Act, Commerce intends to issue the final results of this administrative review, including the results of our analysis of the issues raised by the parties in their comments, within 120 days after publication of these preliminary results.

Assessment Rates and Cash Deposit Requirement

Upon issuance of the final results, Commerce shall determine, and U.S. Customs and Border Protection (CBP) shall assess, countervailing duties on all appropriate entries covered by this review. We intend to issue instructions to CBP 15 days after publication of the final results of review.

Pursuant to section 751(a)(2)(C) of the Act, Commerce also intends to instruct CBP to collect cash deposits of estimated countervailing duties, in the amounts shown above, for each of the respective companies shown above, on shipments of subject merchandise entered, or withdrawn from warehouse, for consumption on or after the date of publication of the final results of this review. For all non-reviewed firms, we will instruct CBP to continue to collect cash deposits at the most-recent company-specific or all-others rate applicable to the company, as appropriate. These cash deposit requirements, when imposed, shall remain in effect until further notice.

These preliminary results of review are issued and published in accordance with sections 751(a)(l) and 777(i)(l) of the Act and 19 CFR 351.221(b)(4).

Dated: August 3, 2018.
James Maeder,
Associate Deputy Assistant Secretary for Antidumping and Countervailing Duty Operations performing the duties of Deputy Assistant Secretary for Antidumping and Countervailing Duty Operations.

Appendix

List of Topics Discussed in the Preliminary Decision Memorandum

I. Summary

II. Background

III. Scope of the Order

IV. Subsidies Valuation Information

V. Analysis of Programs

VI. Verification

VII. Conclusion

[FR Doc. 2018-17161 Filed 8-9-18; 8:45 am]

BILLING CODE 3510-DS-P